ENVIRONMENTAL PROTECTION AGENCY

40 CFR Parts 9 and 257

[EPA-HQ-OLEM-2020-0107; FRL-7814.1-05-OLEM]

RIN 2050-AH34

Hazardous and Solid Waste Management System: Disposal of Coal Combustion Residuals From Electric Utilities; Legacy CCR Surface Impoundments; Correction; Withdrawal of Direct Final Rule

AGENCY: Environmental Protection Agency (EPA).

ACTION: Withdrawal of direct final rule.

SUMMARY: Due to the receipt of adverse comment, the Environmental Protection Agency (EPA) is withdrawing the direct final rule titled, “Hazardous and Solid Waste Management System: Disposal of Coal Combustion Residuals From Electric Utilities; Legacy CCR Surface Impoundments; Correction,” published on January 16, 2025.

DATES: As of March 20, 2025, the EPA withdraws the direct final rule published at 90 FR 4635, on January 16, 2025.

FOR FURTHER INFORMATION CONTACT: Taylor Holt, Office of Resource Conservation and Recovery, Materials Recovery and Waste Management Division, Environmental Protection Agency, 1200 Pennsylvania Avenue NW, MC: 5304T, Washington, DC 20460; telephone number: (202) 566-1439; email address: holt.taylor@epa.gov, or Frank Behan, Office of Resource Conservation and Recovery, Materials Recovery and Waste Management Division, Environmental Protection Agency, 1200 Pennsylvania Avenue NW, MC: 5304T, Washington, DC 20460; telephone number: (202) 566-0531; email address: behan.frank@epa.gov. For more information on this rulemaking, please visit https://www.epa.gov/coalash.

SUPPLEMENTARY INFORMATION: Due to the receipt of adverse comment, the EPA is withdrawing the direct final rule titled, “Hazardous and Solid Waste Management System: Disposal of Coal Combustion Residuals From Electric Utilities; Legacy CCR Surface Impoundments; Correction,” published on January 16, 2025 (90 FR 4635). We stated in that direct final rule that if we received adverse comment by March 17, 2025, the direct final rule would not take effect and we would publish a timely withdrawal in the Federal Register. Because the EPA subsequently received adverse comment on that direct final rule, we are withdrawing the direct final rule.

The EPA published a parallel proposed rule (90 FR 4707, January 16, 2025) on the same day as the direct final rule. The proposed rule invited comment on the substance of the direct final rule. Notwithstanding this action to withdraw the direct final rule, the EPA will continue to accept comment on the parallel proposed rule through March 17, 2025, which is the deadline to submit comments. The EPA will respond to comments as part of any final action it takes on the parallel proposed rule.

List of Subjects

40 CFR Part 9

Environmental protection, Reporting and recordkeeping requirements.

40 CFR Part 257

Environmental protection, Beneficial use, Coal combustion products, Coal combustion residuals, Coal combustion waste, Disposal, Hazardous waste, Landfill, Surface impoundment.

Accordingly, as of March 20, 2025, the EPA withdraws the direct final rule amending 40 CFR parts 9 and 257, which published at 90 FR 4635, on January 16, 2025.

Barry N. Breen,
Principal Deputy Assistant Administrator, Office of Land and Emergency Management.

[FR Doc. 2025-04800 Filed 3-19-25; 8:45 am]

BILLING CODE 6560-50-P